DEPARTMENT OF LABOR

Office of the Secretary

Agency Information Collection Activities; Submission for OMB Review; Comment Request; Logging Operations Standards

ACTION: Notice of availability; request for comments.

SUMMARY: The Department of Labor (DOL) is submitting this Occupational Safety and Health Administration (OSHA)-sponsored information collection request (ICR) to the Office of Management and Budget (OMB) for review and approval in accordance with the Paperwork Reduction Act of 1995 (PRA). Public comments on the ICR are invited.

DATES: The OMB will consider all written comments that agency receives on or before October 23, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Anthony May by telephone at 202-693-4129 (this is not a toll-free number) or by email at DOL_PRA_PUBLIC@dol.gov.

SUPPLEMENTARY INFORMATION: Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

The collection of information contained in the Logging Operations Standard are necessary to reduce workers' risk of death or serious injury by requiring employers to assure that operating and maintenance instructions are available on machines or in the area where the machine is operated. For vehicles, employers must assure that operating and maintenance instructions are available for each vehicle.

Maintenance and Operating Instructions (§§ 1910.266(f)(1)(iii) and (g)(3))

Under paragraph (f)(1)(iii) and (g)(3) of the Standard, employers must assure that operating and maintenance instructions are available on machines or in the area where the machine is being operated, and in vehicles. For those machines with no operating instructions in the cab, the employer will be required to obtain and retain a manual within the immediate work area for each machine. Because the Logging Operations final rule has been in effect since 1995, OSHA assumes that all employers are in compliance with the provision to have operating and maintenance instructions available on machines or in the area where the machines are being operated.

Certification of Training (§ 1910.266(i)(10)(i) and (i)(10)(ii))

Paragraph (i)(10)(i) requires employers to certify in writing that a worker/supervisor received the training the Standard requires. Under paragraph (i)(10)(ii), employers need only maintain the most recent certification for training that a worker/supervisor has received. For additional substantive information about this ICR, see the related notice published in the Federal Register on April 24, 2020 (85 FR 23068).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OSHA.

Title of Collection: Logging Operation Standard.

OMB Control Number: 1218-0198.

Affected Public: Private Sector: Businesses or other for-profits.

Total Estimated Number of Respondents: 8,076.

Total Estimated Number of Responses: 50,996.

Total Estimated Annual Time Burden: 1,507 hours.

Total Estimated Annual Other Costs Burden: $0.

Authority: 44 U.S.C. 3507(a)(1)(D).

Dated: September 17, 2020.
Anthony May,
Management and Program Analyst.

[FR Doc. 2020-20951 Filed 9-22-20; 8:45 am]

BILLING CODE 4510-26-P